DEPARTMENT OF DEFENSE

Department of the Army, Corps of Engineers

Intent To Prepare a Draft Environmental Impact Statement/Environmental Impact Report for a Permit Application for a Proposed Marine Terminal Expansion at Piers D, E and F in the Middle Harbor District of the Port of Long Beach, Los Angeles County, CA

AGENCY: Army Corps of Engineers, Los Angeles District, DoD.

ACTION: Notice of Intent (NOI).

SUMMARY: The U.S. Army Corps of Engineers (Corps) is considering an application for Section 404 and Section 10 permits to conduct dredge and fill activities to redevelop and consolidate two existing container terminals for the construction of a 342-acre marine terminal including redevelopment of 272 acres of existing land and the placement of dredged material in open water to create 70 acres of new land.

The primary Federal concern is the dredging and discharging of materials within waters of the Unites States and potential significant impacts to the human environment. Therefore, in accordance with the National Environmental Policy Act (NEPA), the Corps is requiring the preparation of an Environmental Impact Statement (EIS) prior to consideration of any permit action. The Corps may ultimately make a determination to permit or deny the above project, or permit or deny modified versions of the above project.

Pursuant to the California Environmental Quality Act (CEQA), the Port of Long Beach will serve as Lead Agency for the preparation of an Environmental Impact Report (EIR) for its consideration of development approvals within its jurisdiction. The Corps and the Port of Long Beach have agreed to jointly prepare a Draft EIS/EIR in order to optimize efficiency and avoid duplication. The Draft EIS/EIR is intended to be sufficient in scope to address both the Federal and the state and local requirements and environmental issues concerning the proposed activities and permit approvals.

FOR FURTHER INFORMATION CONTACT: Comments and questions regarding scoping of the Draft EIS/EIR may be addressed to: U.S. Army Corps of Engineers, Los Angeles District, Regulatory Branch, ATTN: File Number 2004-01053-AOA, P.O. Box 532711, Los Angeles, California 90053-2325. Comments or questions can also be sent to Stacey Crouch, Port of Long Beach, P.O. Box 570, Long Beach, CA 90801-0570. Phone messages or questions should be directed to Dr. Aaron O. Allen at 805-585-2148.

SUPPLEMENTARY INFORMATION:

1. Project Site

The proposed project is located in the southern portion of the Port of Long Beach, California. The proposed dredge and fill activities would take place at Piers D, E and F and would involve redeveloping portions of Pier D and reconfiguring existing wharves and berths at Piers E and F to create a single 342-acre marine terminal to accommodate increasing cargo volumes being produced by the new generation of larger container vessels.

2. Proposed Action

The project applicant, the Port of Long Beach, proposes to permanently impact approximately 70 acres of open-water habitat for dredge and fill activities and to rehabilitate 272 acres of existing terminal area at Piers D, E and F for the construction of a new 342-acre container terminal in the Port of Long Beach. The proposed project would reconfigure existing wharves and berths at Piers D, E and F into one 4,250-foot-long wharf with four deep-water berths, a container terminal yard that includes 70 acres of new land and 272 acres of rehabilitated land and an intermodal rail yard. The specific components of the proposed project would include: widening Slip Number Three to 480 feet and deepening it to −55 to −60 feet Mean Lower Low Water (MLLW); excavating one million cubic yards of material from Berths D28-D31; filling Slip One with 2.7 million cubic yards of structurally suitable dredge and excavated material; placement of an additional 770,000 cubic yards in waters of the United States for the construction of a rock dike to the contain the proposed fill at Slip One; filling the East Basin between Piers E and F with 4.06 million cubic yards of dredged material, including the construction of a rock dike to contain the fill area; and construction of 2,260 linear feet of pile supported concrete wharves. The proposed construction and rehabilitation activities would be completed over a 12-year period. All of the above construction activities would include the demolition of existing terminal facilities as well as existing buildings and infrastructure in both open water and upland areas.

3. Issues

There are several potential environmental issues that will be addressed in the Draft EIS/EIR. Additional issues may be identified during the scoping process. Issues initially identified as potentially significant include:

1. Geological issues including dredging and stabilization of fill areas.

2. Potential impacts to marine biological resources.

3. Impacts to air quality.

4. Traffic, including navigation issues and transportation related impacts.

5. Potential noise impacts.

6. Impacts to public utilities and services.

7. Impact to aesthetic resources.

8. Potential impacts on public health and safety.

9. Cumulative impacts.

4. Alternatives

Several alternatives are being considered for the proposed marine terminal. These alternatives will be further formulated and developed during the scoping process and an appropriate range of alternatives, including the no federal action alternative, will be considered in the Draft EIS/EIR.

5. Scoping Process

A public meeting will be held to receive public comment and assess public concerns regarding the appropriate scope and preparation of the Draft EIS/EIR. Participation in the public meeting by Federal, state, and local agencies and other interested organizations and persons is encouraged.

The Corps of Engineers will also be consulting with the U.S. Fish and Wildlife Service under the Endangered Species Act and Fish and Wildlife Coordination Act, and with the National Marine Fisheries Service under the Magnuson-Stevens Act. Additionally, the EIS/EIR will assess the consistency of the proposed Action with the Coastal Zone Management Act and potential water quality impacts pursuant to Section 401 of the Clean Water Act. The public scoping meeting for the Draft EIS/EIR will be held at the Port of Long Beach on September 27, 2004 and will start at 6:30 PM. Written comments will be received until October 4, 2004.

6. Availability of the Draft EIS

The Draft EIS/EIR is expected to be published and circulated in April of 2005, and a Public Hearing will be held after its publication.

David H. Turk,
Colonel, Corps of Engineers, Acting District Engineer.

[FR Doc. 04-19874 Filed 8-30-04; 8:45 am]

BILLING CODE 3710-92-P